DEPARTMENT OF COMMERCE

National Oceanic and Atmospheric Administration

Proposed Information Collection; Comment Request; Societal Response to Tornado Warnings

AGENCY: National Oceanic and Atmospheric Administration (NOAA).

ACTION: Notice.

SUMMARY: The National Weather Service, seeking to expand on existing developing social science, wishes to examine the societal impacts of tornado warnings, specifically the methods of receipt, response, and the impact of false alarms on the rate in which protective actions are followed.

DATES: Written comments must be submitted on or before January 17, 2012.

ADDRESSES: Direct all written comments to Diana Hynek, Departmental Paperwork Clearance Officer, Department of Commerce, Room 6616, 14th and Constitution Avenue NW., Washington, DC 20230 (or via the Internet at dHynek@doc.gov).

FOR FURTHER INFORMATION CONTACT: Requests for additional information or copies of the information collection instrument and instructions should be directed to Justin Gibbs, (702) 263-9744 or Justin.gibbs@noaa.gov.

SUPPLEMENTARY INFORMATION:

I. Abstract

Following a particularly deadly year of tornadoes in the United States despite the existence of adequate warning information, the need is apparent for specialized survey data involving the societal response to the National Weather Service warning system. The agency currently operates with theoretical understanding of warning response from previous social science studies from scholars such as Drabek, Lindell, Gruntfest, and others. More recent data involving the false alarm ratio as a hindrance to the seeking of protective action has been released by Simmons and Sutter. All of these data however lack specific, direct responses from the public regarding how they handle weather related phenomena, specifically tornado warnings. Approximately 16,000 surveys would be distributed to four different cities. The results would be compared from one area of forecast responsibility to another to determine if differing verification statistics indicate any change in response and readiness.

This project seeks to enhance our understanding by focusing specifically on the tornado warning program and its response in an effort to take steps to reduce loss of life in future tornado events.

II. Method of Collection

A questionnaire and a self-addressed postage-paid envelope will be mailed to respondents.

III. Data

OMB Control Number: None.

Form Number: None.

Type of Review: Regular (new information collection).

Affected Public: Individuals or households.

Estimated Number of Respondents: 2,000.

Estimated Time per Response: 2 minutes.

Estimated Total Annual Burden Hours: 67.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 10, 2011.
Gwellnar Banks,
Management Analyst, Office of the Chief Information Officer.

[FR Doc. 2011-29575 Filed 11-15-11; 8:45 am]

BILLING CODE 3510-NK-P